CORPORATION FOR NATIONAL AND COMMUNITY SERVICE

Sunshine Act Meetings

The Board of Directors of the Corporation for National and Community Service (operating as AmeriCorps) gives notice of the following meeting:

TIME AND DATE: Tuesday, February 28, 2023, 12:00 p.m.-1:30 p.m. (ET).

PLACE: AmeriCorps, 250 E Street SW, Washington, DC 20525. For health and safety reasons, this will be a virtual meeting.

• To register for the meeting, please use this link: https://americorps.zoomgov.com/webinar/register/WN_dP98B6xpRlSRIlvxfcuV8w.

• Webinar ID: 161 289 9284; Passcode: 325168.

• To participate by phone, call toll free: (833) 568-8864.

STATUS: Open to the public.

MATTERS TO BE CONSIDERED:

I. Opening Remarks by the Chair

II. CEO Report

III. Oversight, Governance, and Audit Committee Report

IV. Spotlight: Virtual Tour Around the Country of AmeriCorps' Work To Expand Health Equity

V. Public Comment

VI. Chair's Closing Remarks and Adjournment

Members of the public who would like to comment on the business of the Board may do so in writing or virtually. Submit written comments to board@cns.gov with the subject line: “Comments for February 28, 2023, AmeriCorps Board Meeting” no later than 5:00 p.m. (ET) Friday, February 24, 2022. Individuals who would like to comment during the meeting will be given instructions for signing up when they join the meeting. Comments are requested to be limited to two minutes.

AmeriCorps provides reasonable accommodation to individuals with disabilities, where needed.

CONTACT PERSON FOR MORE INFORMATION: Morgan Levey, by telephone: (202) 948-9707 or by email: MLevey@cns.gov.

Fernando Laguarda,
General Counsel.

[FR Doc. 2023-03677 Filed 2-16-23; 4:15 pm]

BILLING CODE 6050-28-P